DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy

Name of Committee: National Center for Research Resources Special Emphasis Panel, Biomedical Technology.

Date: October 25-26, 2004.

Time: October 25, 2004, 8 a.m. to Adjournment.

Agenda: To review and evaluate grant applications.

Place: Double Tree Hotel & Executive Meeting Center, 1750 Rockville Pike, Rockville, MD 20852.

Contact Person: Linda C. Duffy, PhD, Scientific Review Administrator, Office of Review, National Center for Research Resources, National Institutes of Health, 6701 Democracy Boulevard, Room 1082, Bethesda, MD 20892, (301) 435-0810, duffyl@mail.nih.gov.

Name of Committee: National Center for Research Resources Special Emphasis Panel, Comparative Medicine.

Date: October 26, 2004.

Time: 1 p.m. to Adjournment.

Agenda: To review and evaluate grant applications.

Place: Office of Review, One Democracy Plaza, 6701 Democracy Boulevard, Room 1076, Bethesda, MD 20892, (Telephone Conference Call).

Contact Person: Carol Lambert, PhD, Scientific Review Administrator, Office of Review, National Institutes of Health, NCRR, 6701 Democracy Boulevard, 1 Democracy Plaza, Room 1076, MSC 4874, Bethesda, MD 20892, (301) 435-0814, lambert@mail.nih.gov.

(Catalogue of Federal Domestic Assistance Program Nos. 93.306, Comparative Medicine; 93.333, Clinical Research; 93.371, Biomedical Technology; 93.389, Research Infrastructure, 93.306, 93.333, National Institutes of Health, HHS.)
Dated: September 10, 2004.
LaVerne Y. Stringfield,
Director, Office of Federal Advisory Committee Policy.

[FR Doc. 04-20941 Filed 9-16-04; 8:45 am]

BILLING CODE 4140-01-M